DEPARTMENT OF HOMELAND SECURITY

Coast Guard

33 CFR Part 100

[CGD09-07-009]

RIN 1625-AA08

Safety of Life on Navigable Waters; Great Lakes Annual Marine Events

AGENCY: Coast Guard, DHS.

ACTION: Notice of enforcement of regulation.

SUMMARY: The Coast Guard will enforce the Tulip Time Fireworks and Water Ski Show special local regulation on Lake Macatawa in Holland, Michigan on May 4, 2007. This action is necessary to protect the public from the hazards associated with fireworks displays. During the enforcement period no person or vessel may enter the regulated area without the permission of the Captain of the Port or his designated representative.

DATES: Enforced from 7 p.m. through 11 p.m. on May 4, 2007. In the event of inclement weather on May 4, 2007 this regulation will be enforced from 7 p.m. through 11 p.m. on May 5, 2007.

FOR FURTHER INFORMATION CONTACT: CWO Brad Hinken, Prevention Department, Coast Guard Sector Lake Michigan, 2420 South Lincoln Memorial Drive, Milwaukee, WI at (414) 747-7154.

SUPPLEMENTARY INFORMATION: We are publishing this document to provide notice that under the provisions of 33 CFR 100.901, Group Grand Haven, MI: Tulip Time Fireworks and Water Ski Show will be enforced on May 4, 2007 from 7 p.m. through 11 p.m. In case of inclement weather on May 4, 2007 this regulation will be enforced on May 5, 2007 from 7 p.m. through 11 p.m. The regulated area consists of all waters and adjacent shoreline of Lake Macatawa, Holland Harbor, east of a north-south line, from shore to shore, at position 086°08′W (NAD 1983).

In order to ensure the safety of spectators and transiting vessels, this regulated area will be in effect for the duration of the event. In the event that this regulated area affects shipping, commercial vessels may request permission from the Captain of the Port Lake Michigan to transit through the regulated area.

Requests must be made in advance and approved by the Captain of Port before transits will be authorized. The Captain of the Port may be contacted via U.S. Coast Guard Sector Lake Michigan on channel 16, VHF-FM. The Coast Guard will give notice to the public via a Broadcast Notice to Mariners that the regulation is in effect.

Dated: March 29, 2007.
B.C. Jones,
Captain, U.S. Coast Guard, Captain of the Port Sector Lake Michigan.

[FR Doc. E7-6362 Filed 4-5-07; 8:45 am]

BILLING CODE 4910-15-P